DEPARTMENT OF LABOR

Employment and Training Administration

[TA-W-50,536]

Lacers Sport, Inc., a/k/a Diport USA, Including Leased Workers of ADP Totalsource Florida XVII, Inc., Miami, FL; Amended Certification Regarding Eligibility To Apply for Worker Adjustment Assistance

In accordance with section 223 of the Trade Act of 1974 (19 U.S.C. 2273) the U.S. Department Labor issued a Certification of Eligibility to Apply for Worker Adjustment Assistance on January 29, 2003, applicable to workers of Lacers Sport, Inc., a/k/a Diport USA, Miami, Florida. The notice was published in the Federal Register on February 24, 2002 (68 FR 8620).

At the request of the State agency, the Department reviewed the certification for workers of the subject firm. Information provided by the State shows that leased workers of ADP Totalsource Florida XVII, Inc. were employed at Lacers Sports, Inc., a/k/a Diport, USA to produce men's golf shirts at the Miami, Florida location of the subject firm.

Based on these findings, the Department is amending the certification to include leased workers of ADP Totalsource Florida XVII, Inc. who were employed at Lacers Sport, Inc., a/k/a Diport USA, Miami, Florida.

The intent of the Department's certification is to include all workers of Lacers Sport, Inc., a/k/a Diport USA who were adversely affected by increased imports of men's golf shirts.

The amended notice applicable to TA-W-50,536 is hereby issued as follows:

All workers of Lacers Sports, Inc., a/k/a Diport USA, Miami, Florida including leased workers of ADP Totalsource Florida XVII, Inc. engaged in employment related to the production of men's golf shirts at Lacers Sport, Inc., a/k/a Diport USA, Miami, Florida, who became totally or partially separated from employment on or after December 31, 2001, through January 29, 2005, are eligible to apply for adjustment assistance under Section 223 of the Trade Act of 1974.

Signed at Washington DC, this 17th day of March 2003.
Elliott S. Kushner,
Certifying Officer, Division of Trade Adjustment Assistance.

[FR Doc. 03-7916 Filed 4-1-03; 8:45 am]

BILLING CODE 4510-30-P